DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed three-year extension to continue collecting the petroleum marketing survey forms listed below for 2007 through 2009:

EIA-14, “Refiners” Monthly Cost Report;”

EIA-782A, “Refiners'/Gas Plant Operators' Monthly Petroleum Product Sales Report;”

EIA-782B, “Resellers'/Retailers' Monthly Petroleum Product Sales Report;”

EIA-782C, “Monthly Report of Prime Supplier Sales of Petroleum Products Sold For Local Consumption;”

EIA-821, “Annual Fuel Oil and Kerosene Sales Report;”

EIA-863, “Petroleum Product Sales Identification Survey;”

EIA-877, “Winter Heating Fuels Telephone Survey;”

EIA-878, “Motor Gasoline Price Survey;”

EIA-888, “On-Highway Diesel Fuel Price Survey.”

DATES: Comments must be filed by August 7, 2006. If you anticipate difficulty in submitting comments within that period, contact the person listed below as soon as possible.

ADDRESSES: Send comments to Elizabeth Scott. To ensure receipt of the comments by due date, submission by FAX (202) 586-4913 or e-mail (elizabeth.scott@eia.doe.gov) is recommended. The mailing address is Petroleum Division, EI-42, Forrestal Building, U.S. Department of Energy, Washington, DC 20585. Alternatively, Elizabeth Scott can be contacted by telephone at (202) 586-1258.

FOR FURTHER INFORMATION CONTACT: Requests for additional information or copies of any forms and instructions should be directed to Elizabeth Scott at the address listed above.

SUPPLEMENTARY INFORMATION:

I. Background

II. Current Actions

III. Request for Comments

I. Background

The Federal Energy Administration Act of 1974 (Pub. L. 93-275, 15 U.S.C. 761 et seq.) and the DOE Organization Act (Pub L. 95-91, 42 U.S.C. 7101 et seq.) require the EIA to carry out centralized, comprehensive, and unified energy information program. This program collects, evaluates, assembles, analyzes and disseminates information on energy resource reserves, production, demand, technology and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

EIA's petroleum marketing survey forms collect volumetric and price information needed for determining the supply of and demand for crude oil and refined petroleum products. These surveys provide a basic set of data pertaining to the structure, efficiency, and behavior of petroleum markets. These data are published by the EIA on its Web site, http://www.eia.doe.gov, as well as in publications such as the Monthly Energy Review, Annual Energy Review, Petroleum Marketing Monthly, Petroleum Marketing Annual, Week Petroleum Status Report, and the International Energy Outlook. EIA also maintains a 24-hour telephone hotline number, (202) 586-6966, for the public to obtain retail price estimates for on-highway diesel fuel and motor gasoline.

II. Current Actions

EIA will be requesting a three-year extension of approval to continue collecting nine petroleum marketing surveys (Forms EIA-14, 782A, 782B, 782C, 821, 863, 877, 878, and 888) with no substantive changes to the survey forms or instructions. EIA is also interested in receiving public comments with regard to the possible modification to the EIA's petroleum marketing surveys to include an additional category for the reporting of ultra-low-sulfur diesel (ULSD) fuel (i.e., that No. 2 diesel fuel with a sulfur level no higher than 15 parts per million (ppm). The addition of ULSD would impact the Forms EIA-782A, 782B, 782C, 821, 863 and the 888.

III. Request for Comment

Prospective respondents and other interest parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility and clarity of the information to be collected?

As a Potential Respondent to the Request for Information

A. What actions could be taken to help ensure and maximize the quality, objectivity, utility and integrity of the information to be collected?

B. Are the instructions and definitions clear and sufficient? If not, which instructions need clarification?

C. Can the information be submitted by the due date?

D. Public reporting burden for this collection is estimated to average:

EIA-14, “Refiners' Monthly Cost Report” (1.75 hours per response);

EIA-782A, “Refiners'/Gas Plant Operators” Monthly Petroleum Product Sales Report” (15 hours per response);

EIA-782B, “Resellers'/Retailers' Monthly Petroleum Product Sales Report” (2.5 hours per response);

EIA-782C, “Monthly Report of Prime Supplier Sales of Petroleum Products Sold For Local Consumption” (2.1 hours per response);

EIA-821, “Annual Fuel Oil and Kerosene Sales Report” (3.2 hours per response);

EIA-863, “Petroleum Product Sales Identification Survey” (1 hour per response);

EIA-877, “Winter Heating Fuels Telephone Survey” (.1 hour per response);

EIA-878, “Motor Gasoline Price Survey” (.05 hour per response);

EIA-888, “On-Highway Diesel Fuel Price Survey” (.05 hour per response).

The estimated burden includes the total time necessary to provide the requested information. In your opinion, how accurate is this estimate?

E. The agency estimates that the only cost to a respondent is the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternative sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, May 31, 2006.
Jay H. Casselberry,
Agency Clearance Officer, Energy Information Administration.

[FR Doc. E6-8812 Filed 6-6-06; 8:45 am]

BILLING CODE 6450-01-P